DEPARTMENT OF HEALTH AND HUMAN SERVICES

Health Resources and Services Administration

Advisory Committee on Organ Transplantation (ACOT)

AGENCY: Health Resources and Services Administration (HRSA), HHS.

ACTION: Notice; correction.

SUMMARY: The Health Resources and Services Administration published a notice in the Federal Register, FR 2015-03929 (February 26, 2015), announcing the meeting for the Advisory Committee on Organ Transplantation (ACOT). This action is to add dial-in information.

Correction: In the Federal Register, FR 2015-03929 (February 26, 2015), please make the following addition:

Participants can also join this meeting via conference call by calling the toll-free phone number 888-324-4391 and providing the participant pass code 7744447.

Jackie Painter,
Director, Division of the Executive Secretariat.

[FR Doc. 2015-05415 Filed 3-6-15; 8:45 am]

BILLING CODE 4165-15-P